DEPARTMENT OF DEFENSE

Office of the Secretary

[DOD-2006-OS-0179]

Privacy Act of 1974; System of Records

AGENCY: Office of the Secretary, DoD.

ACTION: Notice to alter a system of records.

SUMMARY: The Office of the Secretary of Defense is altering a system of records to its existing inventory of record systems subject to the Privacy Act of 1974 (5 U.S.C. 552a), as amended.

DATES: The changes will be effective on September 14, 2006 unless comments are received that would result in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The Proposed systems reports, as required by 5 U.S.C. 552a(r) of the Privacy Act of 1974, as amended, were submitted August 3, 2006, to the House Committee on Government Reform, the Senate Committee on Homeland Security and Governmental Affairs, and the Office of Management and Budget (OMB) pursuant to paragraph 4c of Appendix I to OMB Circular No. A-130, ‘Federal Agency Responsibilities for Maintaining Records About Individuals,' dated February 8, 1996 (February 20, 1996, 61 FR 6427).

Dated: August 8, 2006.
C.R. Choate,
Alternate OSD Federal Register Liaison Officer, Department of Defense.

DODDS 21

System Name:

Department of Defense Dependents Schools (DODDS) Grievance Records (May 14, 1997, 62 FR 26483).

Changes:

System Identifier:

Delete entry and replace with ``DoDEA 21.''

System name:

Delete entry and replace with ``Department of Defense Education Activity (DODEA) Grievance Records.''

System location:

Delete name and replace with ``Department of Defense Education Activity.''

* * * * *

Categories of records in the system:

Delete entry and replace with ``The system contains records relating to grievances and arbitrations filed by DoDEA employees with the Agency, with the Office of Special Counsel, the Office of Personnel Management, or the Federal Labor Relations Authority. Includes records relating to the identity of third parties, pleadings, statements of witnesses, investigative reports, interviews, hearings, hearing examiner's findings and recommendations, copies of decisions relating to the grievance, and other relevant correspondence and exhibits.''

Authority for maintenance of the system:

Delete entry and replace with ``5 U.S.C. 1221, 2302, and 7532; 10 U.S.C. 2164; 20 U.S.C. 901-907; 20 U.S.C. 931; E.O. 9397 (SSN); 5 CFR 771; DoD Directive 1342.2, Department of Defense Education Activity; and DoDEA 5771.9, Administrative Grievance Procedures.''

Purpose(s):

Delete first paragraph and replace with ``To maintain records for use by management in resolving employ grievances.''

In second paragraph, delete ``DoDDS'' and replace with ``DoDEA.''

Routine uses of records maintained in the system, including categories of users and the purposes of such uses:

Add a new paragraph between the first and second paragraphs to read ``To the Merit systems Protection Board (MSPB), the MSPB Office of Special Counsel, the Federal Labor Relations Authority, the Department of Justice, the Offices of the United States Attorneys, alternative dispute resolutions specialists, and the Federal courts for purposes related to, or incident to, the adjudication of the grievance.''

Policies and practices for storing, retrieving, accessing, retaining, and disposing of records in the system:

Storage:

Add at the end of the sentence ``and electronic records.''

Retrievability:

Delete entry and replace with ``Names of the individuals initiating grievance procedures, case number, and by subject matter.''

Safeguards:

Delete entry and replace with ``Access is provided on a `need-to-know' basis and to authorized authenticated personnel only. Records are maintained in controlled access rooms or areas. Computer terminal access is controlled by terminal identification and the password or similar system. Terminal identification is positive and maintained by control points. Physical access to terminals is restricted to specifically authorized individuals. Password authorization, assignment and monitoring are the responsibility of the functional managers.''

* * * * *

System manager(s) and address:

Delete entry and replace with “Chief, Management Employee Relations Branch, Human Resources Regional Service Center, Department of Defense Education Activity, 4040 North Fairfax Drive, Arlington, VA 22203-1634.”

Notification procedure:

Delete “Dependents Schools” and replace with “Education Activity.”

Record access procedures:

Delete “Dependents Schools” and replace with “Education Activity.”

* * * * *

Record source categories:

Delete entry and replace with “Individuals who have initiated a grievance; witness statements or testimony; agency officials; labor organization representatives; arbitrators, hearing officials and administrative law judges; officials in the MSPB Office of Special Counsel; and by officials of the Federal Labor Relations Authority or Merit Systems Protection Board.”

* * * * *

DoDEA 21

System name:

Department of Defense Education Activity (DODEA) Grievance Records.

System location:

Department of Defense Education Activity, 4040 North Fairfax Drive, Arlington, VA 22203-1634.

Categories of individuals covered by the system:

Current or former employees who have submitted grievances in accordance with 5 U.S.C. 2302, and 5 U.S.C. 7121.

Categories of records in the system:

The system contains records relating to grievances and arbitrations filed by DoDEA employees with the Agency, with the Office of Special Counsel, the Office of Personnel Management, or the Federal Labor Relations Authority. Includes records relating to the identity of third parties, pleadings, statements of witnesses, investigative reports, interviews, hearings, hearing examiner's findings and recommendations, copies of decisions relating to the grievance, and other relevant correspondence and exhibits.

authority for maintenance of the system:

5 U.S.C. 1221, 2302, 7121 and 7532; 10 U.S.C. 2164; 20 U.S.C. 901-907; 20 U.S.C. 931; E.O. 9397 (SSN); 5 C.F.R. 771; DoD Part 1 Directive 1342.2, Department of Defense Education Activity; and DoDEA 5771.9, Administrative Grievance Procecures.

PURPOSE(S):

To maintain records for use by management in resolving employee grievances.

To generate statistical reports, work force studies, and perform other analytical activities supporting personnel management functions of DoDEA.

routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Merit Systems Protection Board (MSPB), the MSPB Office of Special Counsel, the Federal Labor Relations Authority, the Department of Justice, the Offices of the United States Attorneys, alternate dispute resolutions specialists, and the Federal courts for purposes related to, or incident to, the adjudication or litigation of the grievance.

The DoD ‘Blanket Routine Uses’ set forth at the beginning of OSD's compilation of systems of records notices apply to this system.

policies and praCTICES FOR STORING, RETRIEVING, ACCESSING, RETAINING, and disposing of records in the system:

Storage:

Paper records and electronic records.

retrievability:

Names of the individuals initiating grievance procedures, case number, and by subject matter.

Safeguards:

Access is provided on a `need-to-know' basis and to authorized authenticated personnel only. Records are maintained in controlled access rooms or areas. Computer terminal access is controlled by terminal identification and the password or similar system. Terminal identification is positive and maintained by control points. Physical access to terminals is restricted to specifically authorized individuals. Password authorization, assignment and monitoring are the responsibility of the functional managers.

Retention and disposal:

Records are destroyed 4 years after the case is closed.

System manager(s) and address:

Chief, Management Employee Relations Branch, Human Resources Regional Service Center, Department of Defense Education Activity, 4040 North Fairfax Drive, Arlington, VA 22203-1634.

Notification procedure:

Individuals seeking to determine whether information about themselves is contained in this system should address written inquiries to the Privacy Act Officer, Department of Defense Education Activity, 4040 North Fairfax Drive, Arlington, VA 22203-1634.

Written requests for information should contain the full name and address of the individual, and must be signed.

Record access procedures:

Individuals seeking access to information about themselves contained in this system should address written inquiries to the Privacy Act Officer, Department of Defense Education Activity, 4040 North Fairfax Drive, Arlington, VA 22203-1635.

Written requests for information should contain the full name and address of the individual, and must be signed.

Contesting record procedures:

The OSD rules for accessing records, for contesting contents and appealing initial agency determinations are published in OSD Administrative Instruction 81; 32 CFR part 311; or may be obtained from the system manager.

Record source categories:

Individuals who have initiated a grievance; witness statements or testimony; agency officials; labor organization representatives; arbitrators, hearing officials and administrative law judges; officials in the MSPB Office of Special Counsel; and by officials of the Federal Labor Relations Authority or Merit Systems Protection Board.

Exemptions claimed for the system:

None.

[FR Doc. 06-6909 Filed 8-14-06; 8:45am]

BILLING CODE 5001-06-M